INTERNATIONAL TRADE COMMISSION

[Investigation No. 337-TA-930]

Certain Laser Abraded Denim Garments

AGENCY: U.S. International Trade Commission.

ACTION: Notice.

SUMMARY: Notice is hereby given that a complaint was filed with the U.S. International Trade Commission on August 18, 2014, under section 337 of the Tariff Act of 1930, as amended, 19 U.S.C. § 1337, on behalf of RevoLaze, LLC of Westlake, Ohio and TechnoLines, LLC of Westlake, Ohio. A supplement to the complaint was filed on September 5, 2014. The complaint, as supplemented, alleges violations of section 337 based upon the importation into the United States, the sale for importation, and the sale within the United States after importation of certain laser abraded denim garments by reason of infringement of certain claims of U.S. Patent No. 5,990,444 (“the '444 patent”); U.S. Patent No. 6,140,602 (“the '602 patent”); U.S. Patent No. 6,252,196 (“the '196 patent”); U.S. Patent No. 6,664,505 (“the '505 patent”); U.S. Patent No. 6,819,972 (“the '972 patent”); and U.S. Patent No. 6,858,815 (“the '815 patent”). The complaint further alleges that an industry in the United States exists or is in the process of being established as required by subsection (a)(2) of section 337.

The complainants request that the Commission institute an investigation and, after the investigation, issue a general exclusion order, or in the alternative a limited exclusion order, and cease and desist orders.

ADDRESSES: The complaint, except for any confidential information contained therein, is available for inspection during official business hours (8:45 a.m. to 5:15 p.m.) in the Office of the Secretary, U.S. International Trade Commission, 500 E Street SW., Room 112, Washington, DC 20436, telephone (202) 205-2000. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at http://www.usitc.gov. The public record for this investigation may be viewed on the Commission's electronic docket (EDIS) at http://edis.usitc.gov.

FOR FURTHER INFORMATION CONTACT: The Office of Unfair Import Investigations, U.S. International Trade Commission, telephone (202) 205-2560.

Authority: The authority for institution of this investigation is contained in section 337 of the Tariff Act of 1930, as amended, and in section 210.10 of the Commission's Rules of Practice and Procedure, 19 CFR 210.10 (2014).

Scope of Investigation: Having considered the complaint, the U.S. International Trade Commission, on September 16, 2014, Ordered That —

(1) Pursuant to subsection (b) of section 337 of the Tariff Act of 1930, as amended, an investigation be instituted to determine whether there is a violation of subsection (a)(1)(B) of section 337 in the importation into the United States, the sale for importation, or the sale within the United States after importation of certain laser abraded denim garments by reason of infringement of one or more of claims 1-3, 8, 21, 33, 34, 46, 69, 70, and 72 of the '444 patent; claims 1, 14, 15, 53, 73, 83, 85, 94, 97, 99, 112, 120, 122-125, and 141-143 of the '602 patent; claims 5, 11, 13, 14, and 16 of the '196 patent; claims 1 and 49-51 of the '505 patent; claims 1, 2, 4-6, 11, 12, 16-19, 56-59, 61, 63, 64, 72, 77, 78, 83-87, and 92-95 of the '972 patent; and claims 13 and 14 of the '815 patent, and whether an industry in the United States exists or is in the process of being established as required by subsection (a)(2) of section 337;

(2) For the purpose of the investigation so instituted, the following are hereby named as parties upon which this notice of investigation shall be served:

(a) The complainants are:

RevoLaze, LLC, 29300 Clemens Rd., Westlake, OH 44145.

TechnoLines, LLC, 29300 Clemens Rd., Westlake, OH 44145.

(b) The respondents are the following entities alleged to be in violation of section 337, and are the parties upon which the complaint is to be served:

Abercrombie & Fitch Co., 6301 Fitch Path, New Albany, Ohio 43054.

American Eagle Outfitters, Inc., 77 Hot Metal Street, Pittsburgh, Pennsylvania 15203.

BBC Apparel Group, LLC, 1407 Broadway, Suite 503, New York, New York 10018.

Gotham Licensing Group, LLC, 1407 Broadway, Suite 506, New York, New York 10018.

The Buckle, Inc., 2407 West 24th Street, Kearney, Nebraska 68845.

Buffalo International ULC, 400 Sauve West, Montreal, Quebec H3L 1Z8, Canada.

1724982 Alberta ULC, 400 Sauve West, Montreal, Quebec H3L1Z8, Canada.

Diesel S.p.A., via dell'Industria, 4/6, 36042 Breganze (VI), Italy.

DL1961 Premium Denim Inc., 530 7th Avenue, Suite 1505, New York, New York 10018.

Eddie Bauer LLC, 10401 NE 8th Street, Suite 500, Bellevue, Washington 98004.

The Gap, Inc., 2 Folsom Street, San Francisco, California 94105.

Guess?, Inc., 1444 South Alameda Street, Los Angeles, California 90021.

H&M Hennes & Mauritz AB, Mäster Samuelsgatan 46A, SE-106 38 Stockholm, Sweden.

H&M Hennes & Mauritz LP, 110 Fifth Avenue, 11th Floor, New York, New York 10011.

Roberto Cavalli S.p.A., Piazza San Babila 3, 20122 Milan, Italy.

Koos Manufacturing, Inc., 2741 Seminole Ave., South Gate, CA 90280.

Levi Strauss & Co., 1155 Battery Street, San Francisco, California 94111.

Lucky Brand Dungarees, Inc., 540 S. Santa Fe Ave., Los Angeles, CA 90013.

Fashion Box S.p.A., Via Marcoui, 1, 31011 Localita Casella, Asolo (Treviso), Italy.

VF Corporation, 105 Corporate Center Blvd., Greensboro, North Carolina 27408.

(c) The Office of Unfair Import Investigations, U.S. International Trade Commission, 500 E Street SW., Suite 401, Washington, DC 20436; and

(3) For the investigation so instituted, the Chief Administrative Law Judge, U.S. International Trade Commission, shall designate the presiding Administrative Law Judge.

Responses to the complaint and the notice of investigation must be submitted by the named respondents in accordance with section 210.13 of the Commission's Rules of Practice and Procedure, 19 CFR 210.13. Pursuant to 19 CFR 201.16(e) and 210.13(a), such responses will be considered by the Commission if received not later than 20 days after the date of service by the Commission of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.
Issued: September 17, 2014.
Lisa R. Barton,
Secretary to the Commission.

[FR Doc. 2014-22539 Filed 9-22-14; 8:45 am]

BILLING CODE 7020-02-P